ENVIRONMENTAL PROTECTION AGENCY

[PF-937A; FRL-6588-6]

Vinclozolin, Notice of Filing; Availability of Supplemental Information

AGENCY: Environmental Protection Agency (EPA).

ACTION: Notice.

SUMMARY: EPA is announcing the availability of its summary of the toxicity and human health risk associated with the notice of filing of the pesticide petition (PP) (OF6079), which proposes the establishment of tolerances for residues of the fungicide vinclozolin in or on the raw agricultural commodities succulent beans and canola.

DATES: Comments, identified by docket control number PF-937A, must be received by EPA on or before June 4, 2000.

ADDRESSES: Comments may be submitted by mail, electronically, or in person. Please follow the detailed instructions for each method as provided in Unit I. of the “SUPPLEMENTARY INFORMATION.” To ensure proper receipt by EPA, it is imperative that you identify docket control number PF-937A in the subject line on the first page of your response.

FOR FURTHER INFORMATION CONTACT: Mary L. Waller, Registration Division (7505C), Office of Pesticide Programs, Environmental Protection Agency, 1200 Pennsylvania Ave., NW., Washington, DC 20460; telephone number: (703) 308-9354; e-mail address: waller.mary@epa.gov.

SUPPLEMENTARY INFORMATION:

I. General Information

A. Does this Action Apply to Me?

This action is directed to the public in general, nevertheless, a wide range of stakeholders will be interested in this risk summary for vinclozolin, including environmental, human health, and agricultural advocates; the chemical industry; pesticide users; and members of the public interested in the use of pesticides on food. As such, the Agency has not attempted to specifically describe all the entities potentially affected by this action. If you have any questions regarding the applicability of this action to a particular entity, consult the person listed under “FOR FURTHER INFORMATION CONTACT.”

B. How Can I Get Additional Information, Including Copies of this Document or Other Related Documents?

1. Electronically. You may obtain electronic copies of this document and other related documents from the EPA Internet Home Page at http://www.epa.gov/. To access this document, on the Home Page select “Laws and Regulations” and then look up the entry for this document under the “Federal Register—Environmental Documents.” You can also go directly to the Federal Register listings at http://www.epa.gov/fedrgstr/.

2. In person. The Agency has established an official record for this action under docket control numbers PF-937A. The official record consists of the documents specifically referenced in this action, any public comments received during an applicable comment period, and other information related to this action, including any information claimed as CBI. This official record includes the documents that are physically located in the docket, as well as the documents that are referenced in those documents. The public version of the official record does not include any information claimed as CBI. The public version of the official record, which includes printed, paper versions of any electronic comments submitted during an applicable comment period, is available for inspection in Rm. 119, Crystal Mall #2, 1921 Jefferson Davis Hwy., Arlington, VA, from 8:30 a.m. to 4 p.m., Monday through Friday, excluding legal holidays. The PIRIB telephone number is (703) 305-5805.

C. How and to Whom Do I Submit Comments?

You may submit comments through the mail, in person, or electronically. To ensure proper receipt by EPA, it is imperative that you identify docket control number PF-937A in the subject line on the first page of your response.

1. By mail. Submit comments to: Public Information and Records Integrity Branch, Information Resources and Services Division (7502C), Office of Pesticide Programs, Environmental Protection Agency, 1200 Pennsylvania Ave., NW., Washington, DC 20460.

2. In person or by courier. Deliver comments to: Public Information and Records Integrity Branch, Information Resources and Services Division, Office of Pesticide Programs, Environmental Protection Agency, Rm. 119, Crystal Mall #2, 1921 Jefferson Davis Hwy., Arlington, VA. The PIRIB is open from 8:30 a.m. to 4 p.m., Monday through Friday, excluding legal holidays. The PIRIB telephone number is (703) 305-5805.

3. Electronically. Submit electronic comments by e-mail to: “opp-docket@epa.gov,” or you can submit a computer disk as described in this unit. Do not submit any information electronically that you consider to be CBI. Electronic comments must be submitted as an ASCII file, avoiding the use of special characters and any form of encryption. Comments and data will also be accepted on standard computer disks in WordPerfect 6.1/8.0 or ASCII file format. All comments in electronic form must be identified by the docket control number PF-937A. Electronic comments may also be filed online at many Federal Depository Libraries.

D. How Should I Handle CBI Information that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under “FOR FURTHER INFORMATION CONTACT.”

II. What Action is EPA Taking in this Notice?

The notice of filing proposing the establishment of tolerances for the residues of the fungicide vinclozolin in or on succulent beans and canola was published in the Federal Register on April 21, 2000 (65 FR 21427) (FRL-6555-6). The supplemental information to that notice of filing has been placed in the public version of the official record under docket control number PF-937A for public viewing. Due to the availability of this additional information the Agency is extending the closing of the comment period for the notice of filing from May 21, 2000 to June 4, 2000.

The notice of filing represented the view of the petitioner concerning the toxicity and risk associated with the establishment of these tolerances. The supplemental information contains the Agency's summary of the toxicity and risk associated with the establishment of these tolerances. This document has been developed to provide the public with the Agency's current risk characterization for vinclozolin and to provide an opportunity, through this notice, for interested parties to provide written comments to the Agency on the chemical, vinclozolin.

List of Subjects

Environmental protection, Chemicals, Pesticides and pests.

Dated: May 12, 2000.
James J. Jones,
Director, Registration Division, Office of Pesticide Programs.

[FR Doc. 00-12649 Filed 5-25-00; 8:45 am]

BILLING CODE 6560-50-F